DEPARTMENT OF JUSTICE

[AAG/A Order No. 001-2004]

Privacy Act of 1974; System of Records

Pursuant to the provisions of the Privacy Act of 1974 (5 U.S.C. 552a), notice is given that the Department of Justice (DOJ) proposes to establish a new Department-wide system of records entitled “Emergency Contact Systems for the Department of Justice, DOJ/009.” The Department maintains contact information on employees and other individuals having business with the Department who have provided contact information. This information is maintained in central databases, including databases maintained by the Justice Command Center and the DOJ Operators, as well as by individual components and offices throughout the Department. Information that was previously contained in “JUSTICE/JMD-013, Employee Locator File,” is now covered by this Department-wide systems notice. Therefore, the Department hereby removes, on the effective date of this notice, Justice Management Division, “Employee Locator File, JMD-013”, (52 FR 47182, 47270, Dec. 11, 1987).

In accordance with 5 U.S.C. 552a(e)(4) and (11), the public is given a 30-day period in which to comment; and the Office of Management and Budget (OMB), which has oversight responsibility under the Act, requires a 40-day period in which to conclude its review of the system. Therefore, please submit any comments by February 11, 2004. The public, OMB, and the Congress are invited to submit any comments to Mary E. Cahill, Management and Planning Staff, Justice Management Division, Department of Justice, Washington, DC 20530 (Room 1400, National Place Building).

In accordance with 5 U.S.C. 552a(r), the Department has provided a report to OMB and the Congress.

Dated: January 5, 2004.
Paul R. Corts,
Assistant Attorney General for Administration.

Department of Justice-009

System Name:

Emergency Contact Systems for the Department of Justice.

System Locations:

U.S. Department of Justice, 950 Pennsylvania Ave., NW., Washington, DC 20530, and other Department of Justice components and offices throughout the world.

Categories of Individuals Covered by the System:

Employees, former employees, and other individuals having business with the Department who have provided contact information.

Categories of records in the system:

Home phone numbers, cellular phone numbers, pager numbers, numbers where individuals can be reached while on travel or otherwise away from the office, home addresses, electronic mail addresses, names and phone numbers of family members or other contacts, and other contact information provided by individuals covered by this system of records to the Department.

Authority for Maintenance of the System:

5 U.S.C. 301 and 44 U.S.C. 3101.

Purpose of the System:

To maintain contact information on employees and other individuals in case of emergencies involving an employee or the Department, or when necessary for official purposes.

Routine Uses of Records Maintained in the System, including Categories of Users and the Purposes of such Uses:

Pursuant to subsection (b)(3) of the Privacy Act, information may be disclosed from this system as follows:

A. To a Member of Congress or staff acting upon the Member's behalf when the Member or staff requests the information on behalf of, and at the request of, an individual who is the subject of the record.

B. To the General Services Administration and National Archives and Records Administration in records management inspections conducted under the authority of 44 U.S.C. 2904 and 2906.

C. Where a record, either on its face or in conjunction with other information, indicates a violation or potential violation of law—criminal, civil, or regulatory in nature—the relevant records may be referred to the appropriate federal, state, local, foreign, or tribal, law enforcement authority or other appropriate agency charged with the responsibility of investigating or prosecuting such a violation or enforcing or implementing such law.

D. In an appropriate proceeding before a court, or administrative or adjudicative body, when the Department of Justice determines that the records are arguably relevant to the proceeding, or in an appropriate proceeding before an administrative or adjudicative body when the adjudicator holds the records to be relevant to the proceeding.

E. To an actual or potential party to litigation or the party's authorized representative for the purpose of negotiation or discussion on such matters as settlement, plea bargaining, or in informal discovery proceedings.

F. To contractors, grantees, experts, consultants, students, and others performing or working on a contract, service, grant, cooperative agreement, or other assignment for the Federal Government, when necessary to accomplish an agency function related to this system of records.

G. To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

H. To the White House (the President, Vice President, their staffs, and other entities of the Executive Office of the President (EOP)), and, during Presidential transitions, to the President Elect and Vice-President Elect and their designated transition team staff, for coordination of activities that relate to or have an effect upon the carrying out of the constitutional, statutory, or other official or ceremonial duties of the President, President Elect, Vice-President, or Vice-President Elect.

I. To such recipients and under such circumstances and procedures as are mandated by federal statute or treaty.

Policies and Practices for Storing, Retrieving, Accessing, Retaining, and Disposing of Records in the System:

Storage:

Records are stored in electronic form and on paper.

Retrievability:

Information is retrieved by name of individual.

Safeguards:

Information in these systems is safeguarded in accordance with applicable rules and policies, including the Department's automated systems security and access policies. In general, records and technical equipment are maintained in buildings with restricted access. The required use of password protection identification features and other system protection methods also restrict access. Access is limited to those who have an official need for access to perform their official duties.

Retention and Disposal:

Records about individuals who are not current Department employees are retained until no longer needed, pending approval by the National Archives and Records Administration (SF 115); other records are retained and disposed of in accordance with General Records Schedule 1, item 6.

System Manager and Address:

Deputy Assistant Attorney General, Policy, Management and Planning, MAIN Justice Building, 950 Pennsylvania Ave., NW., Washington, DC 20530

Notification Procedures:

Address inquiries to System Manager named above.

Record Access Procedures:

Requests for access must be in writing and should be addressed to the System Manager named above. The envelope and letter should be clearly marked “Privacy Act Access Request.” The request should include a general description of the records sought and must include the requester's full name, current address, and date and place of birth. The request must be signed and dated and either notarized or submitted under penalty of perjury.

Contesting Record Procedures:

Individuals desiring to contest or amend information maintained in the system should direct their request according to the Records Access procedures and to the System Manager listed above, stating clearly and concisely what information is being contested, the reasons for contesting it, and the proposed amendment to the information sought.

Record Source Categories:

Sources of information contained in these systems include employees and other individuals covered by this system, and the Federal Government.

Systems Exempted from Certain Provisions of the Act:

None.

[FR Doc. 04-583 Filed 1-9-04; 8:45 am]

BILLING CODE 4410-FB-P